DEPARTMENT OF COMMERCE

National Institute of Standards and Technology

NIST Consortium for Advancement of Genome Editing

AGENCY: National Institute of Standards and Technology, Department of Commerce.

ACTION: Notice of Research Consortium; Extension of Research Consortium.

SUMMARY: The National Institute of Standards and Technology (NIST) extends the duration of the NIST Consortium for Advancement of Genome Editing (Genome Editing Consortium or Consortium). The Consortium duration was previously through December 1, 2025. NIST is taking this action to provide additional time for interested parties to join the Consortium to further pursue the implementation and achievement of outcomes of the current Consortium activities, as well as to address additional standards needs as defined by the Consortium in qualification of off-target assays and quality of genome editing components. Beginning January 1, 2026 participation fees will increase to $25,000 annually or in-kind contributions of equivalent value. Participants will be required to sign a Cooperative Research and Development Agreement (CRADA).

DATES: The Consortium's activities will continue as needed to complete the updated research plan. NIST will accept letters of interest to participate in this Consortium on an ongoing basis. Acceptance of participants into the Consortium will depend on the availability of resources.

ADDRESSES: Information in response to this notice, including completed letters of interest or requests for additional information about the Consortium, can be directed via mail to the Consortium Manager, Dr. Samantha Maragh, Biosystems and Biomaterials Division of NIST's Material Measurement Laboratory, 100 Bureau Drive, Mail Stop 8312, Gaithersburg, Maryland 20899 or via electronic mail to samantha@nist.gov, or by telephone at (301) 975-4947.

SUPPLEMENTARY INFORMATION: On January 11, 2018, NIST published a notice in the Federal Register (83 FR 1335), establishing the Consortium, and on February 2, 2021, NIST published a notice in the Federal Register (86 FR 7859) extending the duration of the Consortium until December 1, 2025. To provide additional time for interested parties to join the Consortium to further pursue the implementation and achievement of the Consortium objectives, NIST extends the term to continue as needed to complete the updated research plan and will accept letters of interest on an ongoing basis. Previously submitted letters of interest do not need to be resubmitted.

The Consortium's current activities (as described in the original notice, 83 FR 1335) will continue, and the Consortium research plan is amended to include the following new activities:

Qualification of Off-Target Assays: Identify sources of variability and develop consensus approaches to qualifying off-target assays (including potential interlaboratory studies or control materials).

Quality of Genome Editing Components: Identify concepts/information, approaches/assays, and potential controls for assessing quality of genome editing components.

Alicia Chambers,
NIST Executive Secretariat.

[FR Doc. 2024-24514 Filed 10-22-24; 8:45 am]

BILLING CODE 3510-13-P